DEPARTMENT OF AGRICULTURE

Animal and Plant Health Inspection Service

7 CFR Part 319

[Docket No. APHIS-2008-0017]

RIN 0579-AC77

Importation of Tomatoes From Souss-Massa-Draa, Morocco; Technical Amendment

AGENCY: Animal and Plant Health Inspection Service, USDA.

ACTION: Final rule; technical amendment.

SUMMARY: In a final rule published in the Federal Register on November 2, 2009, and effective on December 2, 2009, we amended the fruits and vegetables regulations to allow the importation of commercial consignments of tomatoes from the Souss-Massa-Draa region of Morocco into the United States. However, we incorrectly referred to the national plant protection organization of Morocco as the Moroccan Ministry of Agriculture’s Division of Plant Protection, Inspection, and Enforcement when it was recently changed to the National Office of Food Safety. The National Office of Food Safety is also responsible for export certification inspection and issuance of phytosanitary certificates rather than the Moroccan Ministry of Agriculture, Fresh Product Export. In order to prevent confusion, we are replacing all references to the Moroccan Ministry of Agriculture’s Division of Plant Protection, Inspection, and Enforcement and the Moroccan Ministry of Agriculture, Fresh Product Export with the phrase “national plant protection organization of Morocco.”

EFFECTIVE DATE: May 20, 2010.

FOR FURTHER INFORMATION CONTACT: Ms. Charisse Cleare, Project Coordinator, Regulations, Permits, and Manuals, PPQ, APHIS, 4700 River Road Unit 156, Riverdale, MD 20737-1231; (301) 734-0773.

SUPPLEMENTARY INFORMATION: In a final rule published in the Federal Register on November 2, 2009 (74 FR 56523-56526, Docket No. APHIS-2008-0017), and effective on December 2, 2009, we amended the regulations in “Subpart—Fruits and Vegetables” (7 CFR 319.56-1 through 319.56-50) to allow the importation of commercial shipments of tomatoes from the Souss-Massa-Draa region of Morocco subject to a systems approach similar to that which is already in place in that section for tomatoes imported into the United States from other areas within Morocco. These conditions, which we established in § 319.56-28, require, among other things, that the Moroccan Ministry of Agriculture’s Division of Plant Protection, Inspection, and Enforcement (DPVCTRF) inspect and monitor production sites, and set and maintain Mediterranean fruit fly traps during the tomato shipping season. In addition, the Moroccan Ministry of Agriculture, Fresh Product Export (EACCE), is responsible for export certification, inspection, and issuance of phytosanitary certificates. However, since publication of the final rule, we have learned that the Moroccan Ministry of Agriculture has undergone a reorganization and that DPVCTRF has been replaced by the National Office of Food Safety. In order to prevent confusion, we are replacing all references to DPVCTRF and EACCE with the phrase “national plant protection organization of Morocco.”

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319-FOREIGN QUARANTINE NOTICES

1. The authority citation for part 319 continues to read as follows:

Authority: 7 U.S.C. 450, 7701-7772, and 7781-7786; 21 U.S.C. 136 and 136a; 7 CFR 2.22, 2.80, and 371.3.

2. Section 319.56-28 is amended as follows:

a. In paragraph (c)(1), by removing the words “the Moroccan Ministry of Agriculture, Division of Plant Protection, Inspection, and Enforcement (DPVCTRF)” and adding the words “the national plant protection organization (NPPO) of Morocco” in their place.

b. In paragraph (c)(3), by removing the word “DPVCTRF” and adding the words “the NPPO of Morocco” in its place.

c. In paragraph (c)(4), by removing the word “DPVCTRF” and adding the words “The NPPO of Morocco” in its place.

d. In paragraph (c)(7), by removing, in the first sentence, the words “The Moroccan Ministry of Agriculture, Fresh Product Export (EACCE)” and adding the words “The national plant protection organization of Morocco (NPPO)” in their place; and by removing, in the second sentence, the word “EACCE” and adding the words “the NPPO of Morocco” in its place.

e. In paragraph (g)(1), by removing, in the first sentence, the words “the Moroccan Ministry of Agriculture, Division of Plant Protection, Inspection, and Enforcement (DPVCTRF)” and adding the words “the national plant protection organization (NPPO) of Morocco” in their place; by removing, in the second sentence, the word “DPVCTRF” and adding the words “the NPPO of Morocco” in its place; and by removing, in the third sentence, the word “DPVCTRF” and adding the words “The NPPO of Morocco” in its place.

f. In paragraph (g)(3), by removing, in the first sentence, the word “DPVCTRF” and adding the words “the NPPO of Morocco” in its place.

g. In paragraph (g)(4), by removing the word “DPVCTRF” and adding the words “The NPPO of Morocco” in its place each time it appears.

h. In paragraph (g)(5), by removing the word “DPVCTRF” and adding the words “the NPPO of Morocco” in its place.

i. In paragraph (g)(9), by removing, in the first sentence, the words “The Moroccan Ministry of Agriculture, Fresh Product Export (EACCE)” and adding the words “The national plant protection organization (NPPO) of Morocco” in their place; and by removing, in the second sentence, the word “EACCE” and adding the words “the NPPO of Morocco” in its place.

Done in Washington, DC, this 14th day of May 2010.

Kevin Shea,
Acting Administrator, Animal and Plant Health Inspection Service.

[FR Doc. 2010-12027 Filed 5-19-10; 7:25 am]

BILLING CODE 3410-34-S